DEPARTMENT OF HOUSING AND URBAN DEVELOPMENT

[Docket No. FR-5196-N-03]

Announcement of Funding Awards for the Section 4 Capacity Building for Community Development and Affordable Housing Program; Fiscal Year 2008

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the 2008 Notice of Funding Availability (NOFA) for the Section 4 Capacity Building for Community Development and Affordable Housing grants program. This announcement contains the names of the awardees and the amounts of the awards made available by HUD.

FOR FURTHER INFORMATION CONTACT: Karen E. Daly, Director, Office of Policy Development and Coordination, Office of Community Planning and Development, 451 Seventh Street, SW., Room 7240, Washington, DC 20410-7000; telephone (202) 402-5552 (this is not a toll-free number). Hearing- and speech-impaired persons may access this number via TTY by calling the Federal Relay Service toll-free at (800) 877-8339. For general information on this and other HUD programs, call Community Connections at (800) 998-9999 or visit the HUD Web site at http://www.hud.gov.

SUPPLEMENTARY INFORMATION: HUD's Capacity Building for Community Development and Affordable Housing program is authorized by Section 4 of the HUD Demonstration Act of 1993 (Pub. L. 103-120, 107 Stat. 1148, 42 U.S.C. 9816 note), as amended, and the Revised Continuing Appropriations Resolution, 2007 (Pub. L. 109-289, division B, as amended by Pub. L. 109-369 and 109-383). The Section 4 Capacity Building program provides grants to national community development intermediaries to enhance the capacity and ability of community development corporations and community housing development organizations to carry out community development and affordable housing activities that benefit low-income families and persons. Capacity Building funds support activities such as training, education, support, loans, grants, and development assistance.

The Fiscal Year 2008 competition was announced in the Federal Register on April 9, 2008 (73 FR 19380) and amended on June 18, 2008 (73 FR 34778). The NOFA allowed for approximately $36.95 million for Section 4 Capacity Building grants. This amount included $33.5 million from the 2008 appropriation and $3.45 million carried over from the 2007 NOFA competition. However, due to the 2008 Appropriations Act, HUD was asked to rescind the $3.45 million of carryover funds. As a result, $33.5 million was ultimately available for the competition. Applications were rated and selected for funding on the basis of selection criteria contained in that Notice. For the Fiscal Year 2008 competition, HUD awarded three competitive Section 4 Capacity Building grants totaling $33,500,000.

In accordance with section 102(a)(4)(C) of the Department of Housing and Urban Development Reform Act of 1989 (103 Stat. 1987, 42 U.S.C. 3545), the Department is publishing the grantees and the amounts of the awards in Appendix A to this document.

Dated: January 22, 2009.
Nelson R. Bregón,
General Deputy Assistant Secretary for Community Planning and Development.

Appendix A

Fiscal Year 2008 Funding Awards for the Section 4 Capacity Building for Community Development and Affordable Housing Program

Recipient | State | Amount
Enterprise Community Partners, Inc. | MD | $13,440,120
Local Initiatives Support Corporation | NY | 13,677,191
Habitat for Humanity International | GA | 6,382,689
Total: |  | 33,500,000

[FR Doc. E9-3210 Filed 2-13-09; 8:45 am]

BILLING CODE 4210-67-P